DEPARTMENT OF ENERGY

Federal Energy Regulatory Commission

[Docket No. EL12-87-000]

Los Angeles Department of Water and Power v. PacifiCorp; Notice of Complaint

Take notice that on July 23, 2012, pursuant to section 206 of the Rules of Practice and Procedure of the Federal Energy Regulatory Commission (Commission), 18 CFR 385.206 and section 206 of the Federal Power Act, 16 U.S.C. 824(e), the Los Angeles Department of Water and Power (Complainant) filed a formal complaint against PacifiCorp (Respondent) alleging that, the Respondent is in violation of its Commission approved Open Access Transmission Tariff in attempting to collect unreserved use penalties from the Complainant that function to compensate the Respondent for the difference between its maximum path transfer capacity and the system Operating limits recognized by the Western Electricity Coordinating Council, the regional reliability coordinator.

The Complainant certifies that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on August 13, 2012.

Dated: July 23, 2012.
Nathaniel J. Davis, Sr.,
Deputy Secretary.

[FR Doc. 2012-18504 Filed 7-27-12; 8:45 am]

BILLING CODE 6717-01-P